ENVIRONMENTAL PROTECTION AGENCY

[FRL-9784-7]

Clean Air Act Operating Permit Program; Petition for Objection to State Operating Permit for Luminant Generation Company—Sandow 5 Generating Plant

AGENCY: Environmental Protection Agency (EPA).

ACTION: Notice of final order on petition to object to Clean Air Act (CAA or Act) operating permit.

SUMMARY: This document announces that the EPA Administrator has responded to a citizen petition asking EPA to object to an operating permit (Permit Number O3025) issued by the Texas Commission on Environmental Quality (TCEQ). Specifically, the Administrator has denied the October 5, 2011 petition, submitted by the Environmental Integrity Project (EIP), Sierra Club, Public Citizen, Texas Campaign for the Environment, Environment Texas, and the SEED Coalition (Petitioners), to object to the operating permit issued on August 18, 2011, to Luminant Generation Company, for the operation of the Sandow 5 Generating Plant located near Rockdale, Milam County, Texas. Sections 307(b) and 505(b)(2) of the Act provide that a petitioner may ask for judicial review of those portions of the petition which EPA denies in the United States Court of Appeals for the appropriate circuit. Any petition for review shall be filed within 60 days from the date this notice appears in the Federal Register, pursuant to section 307 of the Act.

ADDRESSES: You may review copies of the final Order, the petition, and other supporting information at EPA Region 6, 1445 Ross Avenue, Dallas, Texas 75202-2733.

EPA requests that if at all possible, you contact the individual listed in the FOR FURTHER INFORMATION CONTACT section to view copies of the final Order, petition, and other supporting information. You may view the hard copies Monday through Friday, from 9:00 a.m. to 3:00 p.m., excluding Federal holidays. If you wish to examine these documents, you should make an appointment at least 24 hours before the visiting day. Additionally, the final Order for Luminant Generation Company, for the operation of the Sandow 5 Generating Plant is available electronically at: http://www.epa.gov/region07/air/title5/petitiondb/petitions/sandow_response2011.pdf.

FOR FURTHER INFORMATION CONTACT: Dinesh Senghani at (214) 665-7221, email address: senghani.dinesh@epa.gov or the above EPA, Region 6 address.

SUPPLEMENTARY INFORMATION: The CAA affords EPA a 45-day period to review, and object to as appropriate, a title V operating permit proposed by State permitting authorities. Section 505(b)(2) of the CAA authorizes any person to petition the EPA Administrator, within 60 days after the expiration of this review period, to object to a title V operating permit if EPA has not done so. Petitions must be based only on objections to the permit that were raised with reasonable specificity during the public comment period provided by the State, unless the petitioner demonstrates that it was impracticable to raise these issues during the comment period or the grounds for the issue arose after this period.

EPA received a petition from the Petitioners dated October 4, 2011, requesting that EPA object to the issuance of the title V operating permit to Luminant Generation Company—Sandow 5 Generating Plant located near Rockdale, Milam County, Texas based on the following contentions: (1) The Sandow 5 title V permit impermissibly incorporates by reference emission limitations established in a major New Source Review permit, (2) the Sandow 5 title V permit impermissibly incorporates by reference the EPA-disapproved Pollution Control Project Standard Permit, (3) the permit impermissibly incorporates permit by rules (this claim is divided into 7 sub-claims), and (4) the permit lacks a Maximum Achievable Control Technology determination as required by CAA section 112(g).

On January 15, 2013, the Administrator issued an Order denying the petition. The Order explains the reasons behind EPA's conclusion to deny the petition.

Dated: February 12, 2013.
Ron Curry,
Regional Administrator, Region 6.

[FR Doc. 2013-04296 Filed 2-25-13; 8:45 am]

BILLING CODE 6560-50-P